DEPARTMENT OF TRANSPORTATION

Pipeline and Hazardous Materials Safety Administration

Notice of Application for Special Permits

AGENCY: Office of Hazardous Materials Safety, Pipeline and Hazardous Materials Safety Administration (PHMSA), DOT.

ACTION: List of applications for special permits.

SUMMARY: In accordance with the procedures governing the application for, and the processing of, special permits from the Department of Transportation's Hazardous Material Regulations (49 CFR Part 107, Subpart B), notice is hereby given that the Office of Hazardous Materials Safety has received the application described herein. Each mode of transportation for which a particular special permit is requested is indicated by a number in the “Nature of Application” portion of the table below as follows: 1—Motor vehicle, 2—Rail freight, 3—Cargo vessel, 4—Cargo aircraft only, 5—Passenger-carrying aircraft.

DATES: Comments must be received on or before February 13, 2012.

ADDRESS COMMENTS TO: Record Center, Pipeline and Hazardous Materials Safety Administration, U.S. Department of Transportation, Washington, DC 20590.

Comments should refer to the application number and be submitted in triplicate. If confirmation of receipt of comments is desired, include a self-addressed stamped postcard showing the special permit number.

FOR FURTHER INFORMATION CONTACT: Copies of the applications are available for inspection in the Records Center, East Building, PHH-30, 1200 New Jersey Avenue SW., Washington, DC or at http://regulations.gov.

This notice of receipt of applications for special permit is published in accordance with part 107 of the Federal Hazardous Materials Transportation Law (49 U.S.C. 5117(b); 49 CFR 1.53(b)).

Issued in Washington, DC, on January 6, 2012.
Donald Burger,
Chief, General Approvals and Permits.

New Special Permits
Application No. | Docket No. | Applicant | Regulation(s) affected | Nature of special permits thereof
15519-N |  | KMG Electronic Chemicals Pueblo, CO | 49 CFR 107.102(c)(4) IP Code 15 | To authorize the transportation of IBCs used to carry UN2031 with more than 55% nitric acid without replacing the rigid lastic inner receptacle every 2 years. (mode 1)
15532-N |  | SET Environmental Inc. Wheeling, IL | 49 CFR 173.244 | To authorize the one-time, one-way transportaion in commerce of one irregulary shaped sodium dispersion vessels in alternative packaging. (mode 1)

[FR Doc. 2012-494 Filed 1-12-12; 8:45 am]

BILLING CODE 4909-60-M